DEPARTMENT OF AGRICULTURE

Forest Service

Nez Perce-Clearwater National Forests; Idaho; Lolo Insect & Disease Project

AGENCY: Forest Service, USDA.

ACTION: Notice of intent to prepare an environmental impact statement.

SUMMARY: The Forest Service gives notice of its intent to prepare an Environmental Impact Statement for the Lolo Insect & Disease project to analyze and disclose the effects of proposed forest management and watershed improvement activities within the Lolo Creek watershed, located approximately 16 miles northeast of Kamiah, Idaho. The proposed action would use a combination of timber harvest, pre-commercial thinning, and reforestation to achieve the desired range of age classes, size classes, vegetative species distributions, habitat complexity (diversity) and landscape patterns across the forested portions of the project area. Road decommissioning, culvert replacements, road improvements, and soils rehabilitation are also proposed to improve watershed health. The EIS will analyze the effects of the proposed action and alternatives. The Nez Perce-Clearwater Forest invites comments and suggestions on the issues to be addressed. The agency gives notice of the National Environmental Policy Act (NEPA) analysis and decision making process on the proposal so interested and affected members of the public may participate and contribute to the final decision.

DATES: The Draft Environmental Impact Statement is expected in February 2014, and will be followed by a 45-day public comment period. The Final Environmental Impact Statement is expected in October 2014.

ADDRESSES: Send written or electronic comments to Lois Hill, Interdisciplinary Team Leader; Kamiah Ranger Station; 903 3rd Street; Kamiah, ID 83536; FAX 208-935-4257; Email comments-northern-clearwater-lochsa@fs.fed.us. Include your name, address, organization represented (if any), and the name of the project for which you are submitting comments. Electronic comments will be accepted in MS Word, Word Perfect, or Rich Text formats. Comments received in response to this solicitation, including names and addresses of those who comment, will be part of the public record for this proposed action. Comments submitted anonymously will be accepted and considered; however, anonymous comments will not provide the Agency with the ability to provide the respondent with subsequent environmental documents.

FOR FURTHER INFORMATION CONTACT: Lois Hill, Interdisciplinary Team Leader, (208) 935-4258.

SUPPLEMENTARY INFORMATION: The objective of the Lolo Insect & Disease Project is to manage forest vegetation to restore natural disturbance patterns; improve long term resistance and resilience at the landscape level; reduce fuels; improve watershed conditions; improve habitat for early seral species; and maintain habitat structure, function, and diversity. Timber outputs from the proposed action would be used to offset treatment costs and support the economic structure of local communities and provide for regional and national needs.

Purpose and Need for the Proposal

Vegetation and Wildlife Habitat Improvement

Existing Condition: Most of the project area is in Forest Plan Management Area (MA) E1. MA E1 is timber-producing land to be managed for healthy timber stands to optimize potential timber growing. Timber production is to be cost-effective and provide maximum protection of soil and water quality. Big game, primarily elk, is to be managed through limited road closures. Dispersed recreation and livestock grazing will be provided if compatible with timber management goals.

In the project area, fires that occurred in 1910 and 1934 and the introduction of white pine blister rust have created a homogeneous age class and species composition which has become highly susceptible to insect and disease change agents due to its current age. Mortality in grand fir and Douglas-fir dominated stands is increasing from root disease, Douglas-fir bark beetle and grand fir engraver. Currently, a higher percentage of grand fir and Douglas-fir exist than natural long-term disturbances patterns would have created and that would have dominated these habitat types in the absence of historical disturbance events. Grand fir and Douglas-fir are more susceptible to insects and diseases, and grand fir is less likely to survive intense wildfires, than early seral species such as ponderosa pine, western larch, and western white pine.

Young forest habitat is lacking on this landscape, while the quality of available habitat for sensitive and old growth-associated species has declined. Patches of young forest that do exist are smaller with edges that are straighter and more even than natural disturbances would have created.

Desired Condition: The desired condition is a forest structure with a range of age and size classes with species diversity that is resistant and resilient to change agents such as insects, diseases, and wildfires. Early seral species (white pine, larch) should represent a greater percentage of the species mix.

Need for Action: Vegetation in this area needs to be managed to create a more diverse and resilient forest structure by creating a range of age and size classes, species diversity, and disturbance patterns that more closely emulate the results of natural disturbance. A need exists to shift tree species composition away from shade-tolerant species toward more resistant and resilient early seral species. Restoration of blister rust resistant white pine is a primary objective.

Goods and Services

Existing Condition: Much of the Project area consists of grand fir-dominated stands. Insect and disease infestations are contributing to increased tree mortality, while decreasing timber volume and value.

Desired Condition: The desired condition is to provide a sustained yield of resource outputs as directed by the Clearwater Forest Plan.

Need for Action: Stands that are infested with insects and diseases need to be treated so that the harvested timber can provide materials for local industries.

Watershed Improvement

The emphasis for watershed restoration in the Lolo Creek drainage is associated with roads and soil improvement.

Existing Condition: Gravel and native surface roads could contribute sediment to stream channels, which can affect water quality and fish habitat. There are 555 miles of system and 40 miles of non-system road in the Lolo Creek watershed. A total of 500 miles occurs within designated PACFISH buffers.

Desired Condition: The desired condition is to maintain a road system in the Lolo Creek watershed that is adequate to provide for continued recreation, commodity production, and administrative use as described in the Clearwater Forest Plan while maintaining fish and water quality objectives.

Need for Action: Improving watershed function and stream conditions by reducing road densities and repairing existing roads and culverts to reduce sediment and improve drainage is needed. New system roads would be constructed to provide a long term transportation system while reducing roads located within riparian habitat conservation areas.

Transportation Planning

Existing Condition: Transportation planning has been done on a project by project basis without analyzing the entire transportations system as a whole.

Desired Condition: A diversity of motorized access adequate to provide for continued recreation, commodity production, and administrative use as described in the Clearwater Forest Plan.

Need for Action: A comprehensive transportation plan including all motorized access opportunities. Implementation of the resulting transportation plan would create a sustainable transportation system.

Soil Improvement

Existing Condition: Past management activities have resulted in areas of soil detrimental disturbance, mostly in the form of compacted or displaced soil or loss of organic matter.

Desired Condition: Soils are productive (functioning soil biology, soil hydrology, and nutrient cycling) and stable.

Need for Action: Watershed function can be improved by restoring compacted soils and adding organic material on old skid trails and landings. Restoration of meadow function with seeding and planting of native species.

The Proposed Action

The Lochsa District proposes the following vegetation management actions to improve forest health, provide goods and services, and improve wildlife habitat:

General Project Area

• Variable retention regeneration harvest and site preparation activities would be conducted on approximately 3,000 acres. Stands that are currently being affected by biotic change agents would be targeted for treatment. Regeneration harvest would create early successional plant communities and habitat. Other silvicultural prescriptions would be used in portions of units to address specific resource concerns, such as areas within the National Historic Landmark Corridor that require retention to meet visual objectives.

• Regeneration would focus on restoring white pine and other long-lived early seral species.

• Variable retention regeneration harvest would include areas of full retention (clumps), irregular edges, and retention of snags and legacy trees to provide structure and a future source of woody debris. Some openings may exceed 40 acres.

• Construct a minimum temporary road system to carry out the proposed action. Roads would be decommissioned after use.

• Harvest would include utilizing ground based, skyline, and helicopter yarding systems.

• Harvesting may occur within Pacfish buffers where they overlap on dry ridges or occur as a sliver above system roads.

• Soil rehabilitation would occur on approximately 50 acres of currently detrimentally disturbed areas associated with past harvest related activities. Activities could include decompaction, mastication, fertilization, seeding, and addition of woody material/organic material. These 50 acres of soil rehabilitation would be in addition to the soil rehabilitation associated with the transportation system and the Musselshell rehabilitation area.

Transportation System

The following road improvement actions are proposed to reduce sediment production and address transportation needs. Road improvements would occur on up to 125 miles of roads within the project area:

• Add cross drains on either side of perennial streams, fish-bearing would be the highest priority followed by non-fish bearing perennials. These would be determined and prioritized based on field review.

• Replace crossings on perennial streams with structures appropriately sized for a 100-year event. These would be prioritized by the zone fish biologist.

• Stabilize eroding sections of road: this could include blading followed by spot rocking or the addition of drainage structures where needed.

• Road decommissioning is proposed on approximately 100-150 miles of system road and approximately 40 miles of non-system road. In most cases this includes fully re-contouring the road.

• Off-highway vehicle opportunities would be considered during the roads analysis.

• Soil rehabilitation would occur on approximately 45 acres of currently detrimentally disturbed areas associated with past harvest related activities. Activities could include decompaction, mastication, fertilization, seeding, and addition of woody material/organic material. These 45 acres of soil rehabilitation would be in addition to the soil rehabilitation associated with the general project area and the Musselshell rehabilitation area.

• New system roads would be constructed to provide a long term transportation system while reducing roads located within riparian habitat conservation areas.

• Deferred maintenance opportunities (such as any needed reconstruction on trails in the National Historic Trail corridors) will be considered during alternative development and the environmental analysis.

Musselshell Restoration Area

The following actions are proposed to improve soil and vegetation conditions in the Musselshell Restoration Area portion (1600 acres) of the Lolo Insect & Disease project area:

• Approximately 500 acres of white pine restoration would be accomplished through commercial thinning and creating small openings to plant blister rust resistant seedlings. Commercial thinning would also benefit other species and contribute to ecosystem health.

• Meadow restoration would occur in various places across the restoration area, and would be achieved through riparian shrub/tree/grass/forbs planting along the meadow in the Musselshell restoration area. Temporary fencing or other protection, such as tubing, would be installed to keep livestock and wildlife out.

• Meadow restoration would be conducted in two phases. During the first phase, half of the area would be planted and then protected for 5 years to allow for establishment. After that, the second phase would be completed. This approach would minimize impacts to the grazing allotment permittee.

• Soil rehabilitation would occur on approximately 55 acres of currently detrimentally disturbed areas associated with past harvest related activities. Activities could include decompaction, mastication, fertilization, seeding, and addition of woody material/organic material. These 55 acres of soil rehabilitation would be in addition to the soil rehabilitation associated with the transportation system and the Musselshell rehabilitation area.

Possible Alternatives: The Forest Service will consider include a no-action alternative, which will serve as a baseline for comparison of alternatives. The proposed action will be considered along with additional alternatives that will be developed to meet the purpose and need for action, and to address significant issues identified during scoping.

The Responsible Official: Rick Brazell, Nez Perce-Clearwater Forest Supervisor, Clearwater National Forest Supervisor's Office, 12730 Highway 12, Orofino, ID 83544.

The Decision To Be Made: Whether to adopt the proposed action, in whole or in part, or another alternative; and what mitigation measures and management requirements will be implemented.

The Scoping Process: The scoping process identifies issues to be analyzed in detail and leads to the development of alternatives to the proposal. The Forest Service is seeking information and comments from other Federal, State, and local agencies; Tribal Governments; and organizations and individuals who may be interested in or affected by the proposed action. Comments received in response to this notice, including the names and addresses of those who comment, will be a part of the project record and available for public review.

Early Notice of Importance of Public Participation in Subsequent Environmental Review: A Draft Environmental Impact Statement (DEIS) will be prepared for comment. The next major opportunity for public input will be when the DEIS is published. The comment period for the DEIS will be 45 days from the date the Environmental Protection Agency publishes the notice of availability in the Federal Register. The Draft EIS is anticipated to be available for public review in February 2014.

Dated: April 15, 2013.
Rick Brazell,
Forest Supervisor.

[FR Doc. 2013-09710 Filed 4-25-13; 8:45 am]

BILLING CODE 3410-11-P